DEPARTMENT OF HEALTH AND HUMAN SERVICES

Centers for Disease Control and Prevention

Centers for Disease Control and Prevention, Tribal Consultation: Meeting Cancelled

The Albuquerque Area CDC Tribal Consultation scheduled for August 29-30, 2002, and September 4, 2002 has been cancelled.

Contact Person for More Information: Captain Pelagie “Mike” Snesrud, RN, Senior CDC Tribal Liaison for Policy and Evaluation, Officer of Director, Centers for Disease Control and Prevention, 1600 Clifton Road, M/S D39, Atlanta, Georgia 30333, telephone 404/693-0432, Fax: 404/639-2195.

The Director, Management Analysis and Services Office, has been delegated the authority to sign Federal Register notices pertaining to announcements of meetings and other committee management activities, for both the Centers for Disease Control and Prevention and the Agency for Toxic Substances and Disease Registry.

Dated: August 29, 2002.
John Burckhart,
Acting Director, Management Analysis and Services Office, Centers for Disease Control and Prevention.

[FR Doc. 02-22579 Filed 9-4-02; 8:45 am]

BILLING CODE 4163-18-P